DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by January 29, 2026 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: Uniform Grant Application for Non-Entitlement Discretionary Grants.

OMB Control Number: 0584-0512.

Summary of Collection: The Food and Nutrition Service (FNS) has a number of non-entitlement discretionary grant programs to collect the information from grant applicants needed to evaluate and rank applicants and protect the integrity of the grantee selection process. All FNS discretionary grant programs will be eligible but not required to use the uniform grant application package. The authorities for these grants vary. The term “grant” in this submission refers only to non-entitlement discretionary competitive and non-competitive grants or cooperative agreements. The uniform grant application package will include general information and instructions; requirements for the program narrative statement describing how the grant goals, objectives, and outcomes will be reached, as well as a description of the budget; the Standard Forms SF-424 series, and SF-LLL, which request basic information, budget information, and disclosure of lobbying activities certification, respectively. In addition, grantees must submit SF-906, Grant Program Accounting System and Financial Capability Questionnaire. Grantees will also be required to submit Standard Form SF-425, Federal Financial Report form, and the FNS-908, Performance Progress Report form.

If FNS decides to use the uniform grant application package, FNS will note in the grant solicitation that applicants must use the uniform grant application package and that the information collection has already been approved by OMB. If FNS chooses not to use the uniform grant application package or finds it necessary for grant applicants to submit extra information not included in the uniform package, FNS will issue a notice of at least 30 days inviting public comments on its plan to gather different or additional information be making a grant solicitation, unless this has already been addressed in earlier published notices.

Need and Use of the Information: The primary users of the information collected from the applicant are FNS and other Federal staff who will serve on a panel to systematically review, evaluate, and approve the competitive and non-competitive grant/cooperative agreement applications and recommend the applicants most likely to meet program objectives and most responsive to the solicitation. The selection criteria will be contained in the Request for Application package. Without this information, FNS will not have adequate data to select appropriate grantees or evaluate which grants should be continued or monitor financial reporting requirements.

Description of Respondents: State, Local, or Tribal Government; Business or other for-profit; Not for profit institutions.

Number of Respondents: 405,231.

Frequency of Responses: Reporting: annually, one time; quarterly, on occasion.

Total Burden Hours: 1,058,432.

Levi S. Harrell,
Departmental Information Collection Clearance Officer.

[FR Doc. 2025-23982 Filed 12-29-25; 8:45 am]

BILLING CODE 3410-30-P